DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice.

Date and Time: April 9, 2003, 8:30 a.m.-5 p.m.; April 10, 2003, 8:30 a.m.-3 p.m.

Place: The Hotel Washington, Pennsylvania Avenue, NW., at 15th St., Washington, DC 20004.

Status: The meeting will be open to the public.

Agenda: Department, Agency, Bureau and Division administrative updates. The Council will address issues related to the practice environment of nurses with opening presentation to set the context. Two panels will follow related to the dimensions of the work environment and diversity in the work environment; Council workgroup sessions and discussion of speaker's and panels presentations with development of recommendations related to the practice environment of nurses.

For Further Information Contact: Anyone interested in obtaining a roster of members, minutes of the meeting, or other relevant information should write or contact Ms. Elaine G. Cohen, Executive Secretary, National Advisory Council on Nurse Education and Practice, Parklawn Building, Room 9-35, 5600 Fishers Lane, Rockville, Maryland 20857, telephone (301) 443-1405.

Dated: March 7, 2003.
Jane M. Harrison,
Director, Division of Policy Review and Coordination.

[FR Doc. 03-6113 Filed 3-12-03; 8:45 am]

BILLING CODE 4165-15-P